DEPARTMENT OF DEFENSE

Office of the Secretary

[Docket No. DOD-2009-HA-0155]

Submission for OMB Review; Comment Request

ACTION: Notice.

The Department of Defense has submitted to OMB for clearance, the following proposal for collection of information under the provisions of the Paperwork Reduction Act (44 U.S.C. Chapter 35).

DATES: Consideration will be given to all comments received by June 1, 2010.

Title and OMB Number: Retention of Behavioral Health Providers Survey and Focus Groups; OMB Control Number 0720-TBD.

Type of Request: New.

Number of Respondents: 800.

Responses per Respondent: 1.

Annual Responses: 800.

Average Burden per Response: 15 minutes.

Annual Burden Hours: 200 hours.

Needs and Uses: The Force Health Protection and Readiness (FHP&R) program has hired Lockheed Martin to develop and implement a survey instrument to evaluate retention of behavioral health providers (psychiatrists and psychologists). Lockheed Martin is working with a subcontractor, Mathematica Policy Research, whose staff will help with the survey data collection for this project.

Information collected will include type of behavioral health provider, importance of different factors influencing decision to join the military, deployment information, ratings of military mental health treatment, salary information, satisfaction with being a military mental health provider, overall health status, and demographic information. Former providers also will be surveyed about reasons for leaving the military, current work status, satisfaction with current employment and salary information, potential influences that could have extended military service. Current providers alsowill be surveyed about reasons that might influence decision to extend military service, first and last name, rank, type of behavioral health provider, date left service (if former provider), mailing address, e-mail address, phone number (home and cell), and installation/last installation.

Affected Public: Individuals or households.

Frequency: One time.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: April 26, 2010.
Mitchell S. Bryman,
Alternate OSD Federal Register Liaison Officer, Department of Defense.

[FR Doc. 2010-10001 Filed 4-28-10; 8:45 am]

BILLING CODE 5001-06-P